DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before September 11, 2019.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC, or at http://regulations.gov.

This notice of receipt of applications for special permit is published in accordance with part 107 of the Federal hazardous materials transportation law (49 U.S.C. 5117(b); 49 CFR 1.53(b)).

Issued in Washington, DC, on August 02, 2019.
Donald P. Burger,
Chief, General Approvals and Permits Branch.

Special Permits Data
Application number | Applicant | Regulation(s) affected | Nature of the special permits thereof
20914-N | SILK WAY WEST AIRLINES, LLC | 172.101(j), 173.27, 175.30(a)(1) | To authorize the transportation in commerce of explosives forbidden aboard cargo-only aircraft. (mode 4)
20916-N | MESSER LLC | 180.407(d)(2)(vi) | To authorize the replacement of cargo tank data plates without requiring the original manufacturers ASME U stamp. (mode 1)
20917-N | Goldstar Manufacturing L.L.C. | 173.4(a)(1)(iii), 173.4(a)(9), 173.4(a)(10) | To authorize the transportation in commerce of methyl isothiocyanate under the small quantities exception. (mode 1)
20918-N | SALCO PRODUCTS INC | 172.704, 179.7 | To authorize the use of packaging components that have been manufactured by entity that has not obtained its AAR facility certification. (mode 2)
20919-N | VERSUM MATERIALS, INC. | 173.338(a) | To authorize the transportation in commerce of tungsten hexafluoride in UN specification tubes. (modes 1, 3)
20923-N | CATALINA CYLINDERS, INC. | 173.302a(a)(1), 178.71(l)(1)(i) | To authorize the manufacture, mark, sale, and use of non-DOT specification fully wrapped fiber reinforced composite gas cylinder with an aluminum alloy 6061-T6 liner. (mode 1, 2, 3, 4)
20924-N | Candesant Biomedical, Inc | 172.402(c), 173.4b(a) | To authorize the transportation in commerce of PG I Division 4.3 materials as de minimis quantities. (modes 1, 2, 4)
20925-N | Flowserve Corporation | 179.7 | To authorize the use of lined plug valves that were not manufactured by an AAR approved facility. (mode 2)
20926-N | Cold Box Express, Inc | Subchapter C | To authorize the transportation in commerce of lithium ion batteries in temperature-controlled shipping containers as not subject to the requirements 49 CFR Subchapter C. (mode 1, 2)
20927-N | Melrose Pyrotechnics | 172.504(a) | To authorize the transportation in commerce of 1.3G fireworks without requiring the vehicle to be placarded. (mode 1)

[FR Doc. 2019-17171 Filed 8-9-19; 8:45 am]

BILLING CODE 4909-60-P